DEPARTMENT OF COMMERCE

National Oceanic and Atmospheric Administration

[Docket No. 011102267-3025-03; I.D. 100102F]

Financial Assistance for Marine Mammal Stranding Networks Through the John H. Prescott Marine Mammal Rescue Assistance Grant Program

AGENCY: National Marine Fisheries Service (NMFS), National Oceanic and Atmospheric Administration (NOAA), Commerce.

ACTION: Notice of solicitation for applications.

SUMMARY: The National Marine Fisheries Service (NMFS) (hereinafter “we” or “us”) issues this document to solicit applications for Federal assistance under the John H. Prescott Marine Mammal Rescue Assistance Grant Program (Prescott Grant Program). This document describes how to submit applications and proposals for funding under the 2003/2004 Prescott Grant Program and how we will determine which proposals will be funded. We will provide financial assistance (up to $100,000 in Federal funds, with a 25 percent non-federal match) to eligible stranding network participants working within waters under United States jurisdiction for proposals pertaining to cetaceans and pinnipeds, except walrus. Proposals must fall primarily within one of the following categories: (A) recovery or treatment (i.e., rescue and/or rehabilitation) of live stranded marine mammals, (B) data collection from living or dead stranded marine mammals for scientific research regarding marine mammal health, and (C) facility operations directly related to the recovery or treatment of marine mammals or collection of data from living or dead stranded marine mammals. Proposals will be reviewed for eligibility, technical merit, and consistency with the Prescott Grant Program's national and regional funding priorities. Final selection will be based on results of the on-line reviews, peer reviews, merit review, equitable distribution of funds among regions, as well as other policy considerations.

DATES: Proposal packages for the annual award cycle must be postmarked by April 14, 2003. For proposal packages submitted under the emergency assistance component of the Prescott Grant Program no submission deadline applies (see Section I. A.).

ADDRESSES: Proposal packages for the annual award cycle should be sent to NOAA/NMFS/Office of Protected Resources, Marine Mammal Health and Stranding Response Program, Attn:Michelle Ordono, 1315 East-West Highway, Room 12604, Silver Spring, MD 20910-3283, phone 301-713-2322 ext 177. Proposal packages for the emergency assistance component of the Prescott Grant Program should be sent to the NMFS Regional Office that oversees the area of action (see the NMFS Prescott Grant Program web page at:http://www.nmfs.noaa.gov/ prot_res/ PR2/ Health_ and_ Stranding_ Response_ Program/ Prescott.html for addresses).

All proposal packages must include: (1) one signed original of the entire proposal and all required forms, and (2) two paper copies of the entire proposal and all required forms (including supporting documentation). One electronic copy on CD or diskette (in Microsoft Word v. 97 or earlier or WordPerfect v. 6.1 or lower) of the entire proposal, including supporting documentation but minus all required forms, is also requested (although not required). Federal forms and required elements of the proposal packages can be obtained from the NMFS Protected Resources Home Page (see section I. L. Electronic Access Addresses). We cannot accept completed applications via the Internet or facsimile at this time.

FOR FURTHER INFORMATION CONTACT: Simona Perry, Marine Mammal Health and Stranding Response Program, phone 301-713-2322 ext 106 or via email:Prescott Grant FR.comments @ noaa.gov.

SUPPLEMENTARY INFORMATION:

I. Introduction

The Marine Mammal Rescue Assistance Act of 2000 amended the Marine Mammal Protection Act (MMPA) to establish the John H. Prescott Marine Mammal Rescue Assistance Grant Program (16 U.S.C. 1421f-1)(hereafter referred to as the Prescott Grant Program). This notice describes how to submit proposals to the Prescott Grant Program for funding using fiscal year (FY) 2003 and 2004 funds and how we will determine which proposals will be funded.

A. Background

The Prescott Grant Program is conducted by the Secretary of Commerce to provide federal assistance to eligible stranding network participants (see section I. E. of this document) for (A) recovery or treatment (i.e., rescue and/or rehabilitation) of live stranded marine mammals¹, (B) data collection from living or dead stranded marine mammals for scientific research regarding marine mammal health, and (C) facility operations directly related to the recovery or treatment of stranded marine mammals and collection of data from living or dead stranded marine mammals. The Prescott Grant Program is administered through the NMFS Marine Mammal Health and Stranding Response Program (MMHSRP).

¹For purposes of this document, a stranded marine mammal is a marine mammal in the wild that is (1) dead and on a beach, shore, or in waters under the jurisdiction of the United States or (2) is live and on a beach or shore of the United States and unable to return to the water, is in apparent need of medical attention, or is in waters under the jurisdiction of the United States but is unable to return to its natural habitat under its own power or without assistance.

The MMHSRP was formalized in 1992 to fulfill the mandates of the Marine Mammal Health and Stranding Response Act, which amended the MMPA in 1992 (16 U.S.C. 1421). The MMHSRP was established to achieve 3 broad goals: (1) to facilitate the collection and dissemination of reference data on marine mammals and health trends of marine mammal populations in the wild; (2) to correlate the health of marine mammals and marine mammal populations in the wild with available data on physical, chemical, and biological environmental parameters; and (3) to coordinate effective responses to unusual mortality events. To achieve these goals, the MMHSRP (through close coordination with regional stranding networks) has the following objectives: improve the rescue, care and treatment of stranded marine mammals; collect life history data and other biomedical data from live and dead stranded marine mammals; develop baselines of “normal” stranding causes; improve the rapid detection of unusual mortality events; collect archival samples for future retrospective studies on causes of mortality or illness and for placement in the National Marine Mammal Tissue (and Serum) Bank; and develop comprehensive and consistent guidance for the rescue and rehabilitation of stranded marine mammals, collection of specimens, quality assurance, and analysis of tissue samples. It is anticipated that awards funded through the Prescott Grant Program will facilitate achievement of the MMHSRP goals and objectives by providing financial assistance to eligible stranding network participants.

It is NMFS's intent to also reserve a portion of the funds to make emergency assistance available for unexpected, significant stranding events throughout the year on an as-needed basis. This emergency assistance is available to eligible network participants regardless of whether they are already receiving funds from the Prescott Grant Program's annual award cycle for another project. Responders to such stranding events should contact the NMFS Regional Office that oversees the area of action for further information and submit the proposal package to the NMFS regional stranding coordinator for review and approval of the need for such an award. For addresses of appropriate NMFS Regional Offices and stranding coordinators, see the MMHSRP web site:http://www.nmfs.noaa.gov/ prot_res/ PR2/ Health_and_ Stranding_ Response_Program/ mmhsrp.html. The NMFS regional coordinator will then forward all application materials to the Office of Protected Resources with a letter of concurrence of need. Until further guidance is published, those seeking emergency assistance funding should prepare their proposal packages according to the guidelines outlined in Section III of this document and forward all forms and documentation to the appropriate NMFS Regional Office.

B. Changes from the 2002 Solicitation

As a result of comments received from those who submitted proposals in 2002 and those who took part in the 2002 technical and merit reviews, changes to the solicitation and review processes are being instituted in this competition. Therefore, we encourage applicants who submitted a proposal in 2002, to read this entire document before preparing a proposal for the 2003/2004 cycle.

Four significant changes to the 2003/2004 funding competition include: 3 separate proposal categories that encompass Program goals and funding priorities (see Section I. C. and Section II); all proposal packages for the 2003/2004 award cycle will be sent to NMFS' Office of Protected Resources (see ADDRESSES); a new three stage review process, including on-line reviews of each proposal, panel peer reviews of each proposal, and Federal government merit review of each proposal scoring greater than 60 points in either the on-line or peer review (see Section IV); and new review criteria for use by both on-line and peer reviewers (see Section IV).

C. Proposal Categories

For this solicitation, all proposals must fall within one of the 3 following categories: Category A - Recovery or treatment of live stranded marine mammals (i.e., rescue of live stranded marine mammals including treatment, assessment, and/or rehabilitation); Category B - Data collection from living or dead stranded marine mammals (i.e., recovery of stranded marine mammals for collection of Level A, B, or C data, specimen collection, and/or analyses); Category C - Facility operations directly related to the recovery or treatment of stranded marine mammals or collection of data from living or dead stranded marine mammals (i.e., physical plant renovations, maintenance, facility modifications/upgrades, and/or construction).

Successful proposals under Category A will be those that propose to improve live marine mammal stranding recovery or treatment, including, but not limited to:enhancing the rescue and treatment of animals, training of responders and rehabilitators via development of outreach and educational material or workshops, developing and testing of new or novel techniques for transport, treatment, or reporting, and non-construction operational needs (e.g., equipment, supplies, staffing, printing) related to these activities. Successful proposals under Category B will be those that propose to collect data that will allow researchers to correlate physical, chemical, biological, and marine mammal health parameters towards a better understanding of marine mammal population biology, and non-construction operational needs (e.g., equipment, supplies, staffing, printing) related to these activities. Successful proposals under Category C will be those that propose to meet facility operation needs (e.g., physical alterations to facility, maintenance) for stranding response and recovery or conduct facility upgrades (e.g., renovations, build-outs) in order to enhance existing recovery or treatment areas or increase the ability to collect marine mammal health and environmental data before, during, or after stranding events. According to the statute, preference will be given to facility operation needs and upgrades for those facilities that have established records for rescuing or rehabilitating sick and stranded marine mammals.

The applicant must select only one of the 3 categories that best fits their proposal. We recognize that most projects will have overlap with more than one category; however, applicants must determine which one category best fits the overall goals of the proposed project. For additional guidance on the type of expertise that will be used in evaluating proposals, applicants should refer to Section IV. B. and IV. C. In the 2003/2004 award cycle, no Prescott Grant Program funds will go towards basic scientific research on non-stranded marine mammals (i.e., wild population studies).

D. Program Funding Priorities

Each proposal category has a set of national and regional funding priorities that relate to specific national or regional stranding network needs. All proposals must identify at least one national or regional funding priority that is directly related to the projects goals and objectives. These specific funding priorities are outlined in section II of this document and are not in any rank order.

E. Available Program Funds

This solicitation announces that a minimum of $1.3M is available for distribution and that a maximum of $8.8M may be available for distribution under the 2003/2004 Prescott Grant Program. For the 2003/2004 annual cycle there is $1.3M from carryover of FY 2002 funds, and possibly up to $3.76M from FY 2003 appropriations, and up to $3.76M from FY 2004 appropriations. Applicants are hereby given notice that neither funds for FY 2003 nor FY 2004 have been appropriated, and therefore exact dollar amounts cannot be given. The maximum Federal award for each annual award or emergency assistance award cannot exceed $100,000 (with a minimum of 25 percent non-Federal cost share), as stated in the legislative language (16 U. S. C. 1421f-1).

In addition to the annual competitive process, $400K is available from FY 2002 carryover to provide for emergency assistance awards. If appropriations are received for FY 2003 and FY 2004, then additional funds will be set aside for these emergency assistance awards. Of the FY 2003 appropriations, $200K will be set aside. Additionally, FY 2004 appropriations will be set aside as needed or as indicated by previous usage of the emergency assistance fund. All emergency funds set aside and unused will be carried over for awards in subsequent years.

There is no limit on the number of proposals that can be submitted by the same eligible stranding network participant or authorized researcher during the 2003/2004 annual cycle. However, there are insufficient funds to award financial assistance to every applicant. Multiple proposals submitted must clearly identify different projects and must be successful in the competitive review process. In an attempt to ensure that the greatest number of applicants receive assistance during the 2003/2004 funding cycle, eligible stranding network participants can receive no more than two awards in this cycle. The two awards must be for projects that are clearly separate in their objectives, goals, and budget requests. In addition, if eligible researchers are applying as Principal Investigators, and are not independently authorized under the MMPA Section 112(c), the MMPA Section 104 (see implementing regulations at 50 CFR 216.33-44), the MMPA Section 109(h) (see implementing regulations at 50 CFR 216.22), or the National Contingency Plan for Response to Marine Mammal Unusual Mortality Events, then they can receive no more than one award in the 2003/2004 cycle.

Eligible stranding network participants and researchers can be identified as Co-Investigators or Cooperators on an unlimited number of proposals. In addition, Department of Commerce (DOC) and Department of Interior (DOI) employees may act as Cooperators if they are responsible for performing analyses or interpreting data collected under a Prescott award. However, no Prescott Grant Program funds can be used for salaries or travel of DOC or DOI employees. See section I. F. for Eligibility requirements.

There is no guarantee that sufficient funds will be available to make awards for all qualified projects. Publication of this notice does not oblige NOAA to award any specific project or to obligate any available funds. If an application for a financial assistance award is selected for funding, NOAA/NMFS has no obligation to provide any additional funding in connection with that award in subsequent years. In no event will NOAA or DOC be responsible for proposal preparation costs if this program fails to receive funding or is cancelled because of other agency priorities.

If a recipient of an award incurs any costs prior to receiving an award agreement signed by an authorized NOAA official, they would do so solely at their own risk of these costs not being included under the award. Notwithstanding any verbal or written assurance that applicants have received, pre-award costs are not allowed under the award unless the Grants Officer approves them in accordance with 15 CFR 14.28.

F. Eligibility

There are 5 categories of eligible stranding network participants that can apply for funds under this Program: (1) Letter of Agreement (LOA) holders; (2) LOA designees; (3) researchers; (4) NMFS-recognized Northwest Region participants; and, (5) state, local, or eligible Federal government entities.

In order for these organizations and individuals to apply for award funds under the Prescott Grant Program, they must meet the following eligibility criteria specific to their category of participation:

1. LOA Holder Participant

a. Active as an authorized participant for the past 3 years in network activities.²

²Applications from new network members, such as individuals or groups that have been granted authorization recently, will likely not qualify for eligibility during the first few funding cycles unless those applicants have experience as active Network participants (e.g., as designee or under 109(h)) for the past 3 years. The Act makes clear its intent to provide financial assistance to the active stranding network: “Provide grants to eligible stranding network participants* * *”, and preference should be given to: “* * * those facilities that have established records for rescuing or rehabilitating sick and stranded marine mammals.” The 3 year period is important to establishing whether or not participants are in good standing by their completion of reporting requirements and level of cooperation.

³To be “in good standing”, you must meet all of the following criteria:

a. If a Marine Mammal Protection Act (MMPA) or Endangered Species Act (ESA) scientific research or enhancement permit holder and the applicant is a designated Principal Investigator, have fulfilled all permit requirements, including but not limited to submission of all reports, and must have no pending or outstanding enforcement actions under the MMPA or ESA.

b. Have complied with the terms and responsibilities of the appropriate LOA, MMPA section 109(h) authorization, or National Contingency Plan (whichever applies). This includes the following reporting requirements: (1) timely reporting of strandings to NMFS, (2) timely submission of complete reports on basic or Level A data to the Regional Coordinator (includes investigator's name, species, stranding location, number of animals, date and time of stranding and recovery, length and condition, and sex; marine mammal parts retention or transfer; annual reports), and (3) collecting information or samples as necessary and as requested. This also includes the following coordination/cooperation requirements: (1) cooperation with state, local, and Federal officials, and (2) cooperation with other stranding network participants.

c. Have cooperated in a timely manner with NMFS in collecting and submitting Level B (supplementary information regarding sample collection related to life history and to the stranding event) and Level C (necropsy results) data and samples, when requested.

d. Have no current enforcement investigation for the take of marine mammals contrary to MMPA or ESA regulations.

e. Have no record of pending NMFS notice of violation(s) regarding the policies governing the goals and operations of the Stranding Network.

b. Participating in good standing.³

c. Holding a current LOA for stranding response (either live or dead animal response) or rehabilitation from NMFS.

d. Not a current full-time or part-time employee of the DOC or the DOI.

2. LOA Designee Participant

a. Active as an authorized participant for the past 3 years in network activities².

b. Participating in good standing³.

c. Holding a current letter of designation from a NMFS LOA holder.

d. Not a current full-time or part-time employee of DOC or DOI.

3. Researcher Participant

a. Active as an authorized participant for the past 3 years in network activitiess.²

b. Holds an authorizing letter from an appropriate NMFS Regional Administrator to salvage or receive salvaged dead stranded marine mammal specimens and parts for the purpose of utilization in scientific research (50 CFR 216.22), unless an exception to notification or prior authorization is cited under 50 CFR 216.22(c)(8). Persons authorized to salvage dead marine mammal specimens under this section must have registered the salvage with the appropriate NMFS Regional Office within 30 days after the taking or death occurs.

c. Holds or has applied for a NMFS scientific research and/or enhancement permit to take marine mammals requested under authority of the MMPA of 1972, as amended (16 U. S. C. 1361 et seq.), the Regulations Governing the Taking and Importing of Marine Mammals (50 CFR part 216), the ESA of 1973, as amended (16 U. S. C. 1531 et seq.), and the regulations governing the taking, importing, and exporting of endangered fish and wildlife (50 CFR part 222, subpart C).

d. Have at least one designated co-Investigator(s) that is an active NMFS-authorized stranding network participant in good standing³.

e. Not a current full-time or part-time employee of DOC or DOI.

4. Northwest Region Participants

a. Active as a NMFS-recognized participant for the past 3 years or more in Northwest Region network activities² and named in the Draft 2002 National Contingency Plan for Response to Marine Mammal Unusual Mortality Events.

b. Participating in good standing³.

c. Not a current full-time or part-time employee of DOC or DOI.

5. State, Local, or Federal Government Participants

a. Actively involved as an authorized participant in stranding response and/or rehabilitation during the past 3 years in an area of geographic need (i.e., municipality or larger region with no existing responder)².

b. Participating in good standing³.

c. State and local government officials or employees participating pursuant to MMPA section 109(h)(16 U.S.C. 1379(h)) for marine mammal species not listed under the Endangered Species Act and fulfilling reporting obligations outlined in 50 CFR 216.22 (i.e., submission of written report to NMFS every 6 months containing description of animal(s) involved, circumstances of taking, method of taking, name and position of official or employee involved, and disposition of animal(s)).

d. Not a current full-time or part-time employee of DOC or DOI.

Applicants must submit the required documentation in their proposal (see section III, How to Apply) as evidence that they are an LOA holder participant, designee participant, researcher participant, NMFS-recognized Northwest Region participant, or a state, local, or Federal government participant. All eligibility criteria specified for the participant's category must be met in order for a proposal to be considered for funding. Proposals that are not eligible for funding according to the above criteria will be returned to the applicant with explanation.

We support cultural and gender diversity in our programs and encourage eligible women and minority individuals and groups to submit proposals. Furthermore, we recognize the interest of the Secretaries of Commerce and Interior in defining appropriate marine management policies and programs that meet the needs of the U. S. insular areas, so we also encourage proposals from eligible individuals, government entities, universities, colleges, and businesses in U. S. insular areas as described in the Marine Mammal Protection Act (MMPA) (section 3(14), 16 U. S. C. 1362). This includes the Commonwealth of Puerto Rico, the U. S. Virgin Islands, American Samoa, Guam, and the Northern Mariana Islands.

We are also strongly committed to broadening the participation of Minority Serving Institutions (MSIs), which include Historically Black Colleges and Universities, Hispanic Serving Institutions, and Tribal Colleges and Universities, in our programs. The DOC/NOAA/NMFS vision, mission, and goals are to achieve full participation by MSIs, to advance the development of human potential, strengthen the Nation's capacity to provide high-quality education, and increase opportunities for MSIs to participate in and benefit from Federal financial assistance programs. Therefore, we encourage all eligible applicants to include meaningful participation of MSIs whenever practicable.

Applicants are not eligible to submit a proposal under this program if they are an employee of the DOC or DOI. NOAA/NMFS employees (whether full-time, part-time, or intermittent) are not allowed to help in the preparation of proposals. MMHSRP staff (at the regional and national level) are available to provide information regarding statistics on strandings, MMHSRP programmatic goals and objectives, ongoing marine mammal programs, funding priorities for the 2003/2004 Prescott Grant Program cycle, and, along with other Federal Program Officers, can provide guidance on application procedures and proper completion of required Federal forms. Since this is a competitive program, NMFS and NOAA employees cannot provide assistance in conceptualizing, developing, or structuring proposals, or write letters of support for any proposal. NMFS or NOAA employees may provide information to applicants on appropriate analytical techniques including costs and time lines for such analyses. For activities that involve collaboration with current NOAA programs including, but not limited to, the National Marine Mammal Tissue Bank (NMMTB) and laboratories conducting analysis of tissues for contaminants, employees of NOAA or the DOC/National Institute of Standards and Technology can write a letter verifying that they are collaborating with the proposed project, that the applicant is trained to participate in the NMMTB, or that the applicant is currently participating in the National Marine Analytical Quality Assurance Program. Funds from the Prescott Grant Program cannot be used for NOAA or NMFS employee travel or salaries. Proposals selected for funding from a non-NOAA Federal agency will be funded through an inter-agency transfer.

Unsatisfactory performance under prior or current Federal awards can result in proposals not being considered for funding under the 2003/2004 Prescott Grant Program cycle.

G. Other Permits and Approvals

It is the applicant's responsibility to obtain all necessary Federal, state, and local government permits and approvals. In order to determine whether such permits and approvals have been obtained or requested, the applicant must include in the proposal package either:1) an application cover letter from the Prescott applicant to the appropriate authorizing entity requesting permits (e.g., MMPA scientific research permit) or approvals (e.g., Institutional Animal Care and Use Committee (IACUC) review), or 2) a copy of the final permit or approval.

For projects on live stranded or rehabilitated and/or released marine mammals, if the stranding network participant or researcher works for a research facility (e.g., University, Aquarium, animal care facility) with an IACUC, that applicant must have requested or obtained approval from the IACUC prior to applying for funding under this program (as required by the regulations under the Animal Welfare Act, 9 CFR 2.30-2.31). If the proposed project involves intrusive research (50 CFR 216.27(c)(6)) or if animals must be held after rehabilitation has been completed, the applicant must have applied for or obtained a MMPA and/or ESA scientific research and/or enhancement permit before the proposal will be considered for funding. Intrusive research is defined under 50 CFR 216.3. For proposed intrusive research at a research facility, the facility must have applied for registration or already be registered by the U. S. Department of Agriculture, Animal and Plant Health Inspection Service (APHIS) as a research facility. For more information on obtaining research facility registration please refer to the APHIS, Animal Care Program home page at http://www.aphis.usda.gov/ac/.

Activities directly related to the individual animal's health assessment, standard diagnostics, treatment, approved post-release monitoring, or release are separately authorized by NMFS under the authorizations for stranding network participants and therefore do not require an additional permit.

It is the applicant's responsibility to request and obtain all water quality, air quality, or other waste disposal permits as well as wetland and building permits, when required. If applicable, documentation of the requests or approvals of all such environmental permits must be included in the proposal package. Such documentation must include any environmental impact analyses that is required to be submitted to the appropriate Federal, state, or local permitting authority as well as a National Environmental Policy Act (NEPA) checklist (form available on the Prescott Grant Program web site

http://www.nmfs.noaa.gov/ prot_res/ PR2/ Health_and_ Stranding_Response_ Program/ Prescott.html). These documents will help the Prescott Grant Program staff determine if the application requires the preparation of an environmental assessment. At initial screening, all applications will be reviewed to ensure that they have sufficient environmental documentation to allow program staff to determine whether the proposal is categorically excluded from further NEPA analysis or whether an environmental assessment is necessary. For those applications needing an environmental assessment, affected applicants will be so informed after the initial screening stage and will be requested to prepare a draft of the assessment by the merit review panel meeting in Summer 2003. Applicants are expected to design their proposals so that they minimize their potential adverse impacts on the environment. Applicants who believe that the work or funding for the work under their applications may require an environmental assessment, for example those proposing construction activities under Category C, should not wait until the initial screening to plan for conducting an environmental assessment. Category C applicants are encouraged to contact the Prescott Grant Program staff as early as possible for guidance on preparing an assessment. This process is intended to assist NMFS' compliance with NEPA.

If proposed activities in Category A, B, or C will take place within National Marine Sanctuaries, National Parks, National Seashores, and other Federally-designated or State-designated protected areas, it is the applicant's responsibility to request and obtain from the appropriate government agencies any necessary permits or letters of agreement.

For further information on permit requirements and applications procedures for Federal scientific research or MMPA enhancement permits, contact the NMFS Office of Protected Resources (see FOR FURTHER INFORMATION CONTACT) or see the following website:http://www.nmfs.noaa.gov/prot_res/PR1/Permits/pr1permits_types.html.

If a proposal is selected for funding, any necessary MMPA and/or ESA scientific research and/or enhancement permits must be received prior to receipt of funds. Failure to obtain other Federal, state, and local permits, approvals, letters of agreement, or failure to provide environmental analyses where necessary (i.e., NEPA environmental assessment) will also delay the receipt of funds if a project is otherwise selected for funding.

H. Duration and Terms of Funding

2003/2004 awards under the Prescott Grant Program will have a maximum project period of 3 years. However, the total Federal award cannot exceed $100,000 regardless of the length of the project period. We will not accept proposals requesting incrementally funded projects exceeding $100,000 in Federal funds.

If an applicant wishes to continue work on a project funded through this program beyond the project period and obligated award funds have not been expended by the end of this period, the applicant can notify the assigned Federal Program Officer 30 days prior to the end of the period to determine eligibility for a no-cost extension. If, however, the money is expended and funds are needed to continue the project, the applicant should submit another proposal during the next competitive award cycle (FY 2005) or seek an alternate source of funding.

If a proposal is selected for funding, we have no obligation to provide any additional future funding in connection with that award. Renewal of an award to increase funding up to the maximum of $100,000 in the Federal share or to extend the period of performance is totally at our discretion.

I. Non-Federal Match or Cost Sharing

Legislation under which the Prescott Grant Program operates requires a non-Federal match, or cost share, in order to leverage the limited funds available for this program and to encourage partnerships among government, private organizations, non-profit organizations, the stranding network, and academia to address the needs of marine mammal health and stranding response. All proposals submitted must provide a minimum non-Federal match of 25 percent of the total budget (i.e., .25 x total project costs = total non-Federal share). Therefore, the total Federal share will be 75 percent or less of the total budget. For example, if the proposed total budget was $133,334, the minimum total non-Federal share would be $33,334 (.25 x $133,334 = $33,334) and the maximum total Federal share would be $100,000 (.75 x $133,334 = $100,000). The applicant can include a non-Federal match for more than 25 percent of the total budget, but this obligation will be binding. In order to reduce calculation error in determining the correct non-Federal match amounts, we urge all applicants to use the cost share calculator on the Prescott Grant Program web page (see section I. L. Electronic Access Addresses).

The Federal Program Officer will determine the appropriateness of all non-Federal match proposals, including the valuation of in-kind contributions, according to the regulations codified at 15 CFR 14.23 and 24.24. An in-kind contribution is a non-cash contribution, donated or loaned, by a third party to the applicant. In general, the value of in-kind services or property used to fulfill a non-Federal match will be the fair market value of the services or property. Thus, the value is determined by the cost of obtaining such services or property if they had not been donated, or of obtaining such services or property for the period of the loan. The applicant must document the in-kind services or property used to fulfill the non-Federal match. If we decide to fund a proposal, we will require strict accounting of the in-kind contributions within the total non-Federal match included in the award document. The Grants Officer (i.e., the Department of Commerce official responsible for all business management and administrative aspects of a grant and with delegated authority to award, amend, administer, close out, suspend, and/or terminate awards) is the final approving authority for the award, including the budget and any non-Federal match proposals.

J. Catalog of Federal Domestic Assistance

The Prescott Grant Program will be listed in the “Catalog of Federal Domestic Assistance” under number 11.439, titled “Marine Mammal Data Program”. This information should be included on the Application Form, 424, space 10 (see section III, How to Apply, below).

K. Where to Send Proposals

All proposals for the annual award cycle should be sent to NOAA/NMFS/Office of Protected Resources, Marine Mammal Health and Stranding Response Program, Attn: Michelle Ordono, 1315 East-West Highway, Room 12604, Silver Spring, MD 20910-3283, phone 301-713-2322 ext 177. Proposals for the emergency assistance component of the Prescott Grant Program should be sent to the NMFS Regional Office that oversees the area of action (see the NMFS Prescott Grant Program web page at:http://www.nmfs.noaa.gov/ prot_res/ PR2/ Health_and_ Stranding_Response_ Program/ Prescott.html for addresses). We cannot accept completed applications via the Internet or facsimile at this time.

L. Electronic Access Addresses

This solicitation, complete proposal packages (including required Federal forms) with instructions, a cost share calculator and addresses for submission are available on the NMFS Prescott Grant Program web page at:http://www.nmfs.noaa.gov/ prot_res/ PR2/ Health_and_ Stranding_ Response_ Program/ Prescott.html.

II. Program Goals and Regional Funding Priorities

For each of the proposal categories, national and regional funding priorities have been identified that are either essential to accomplishing the overarching goals of the Prescott Grant Program or address specific needs of each stranding region. The MMHSRP has identified national funding priorities that are nation-wide in scope or that cross regional boundaries in implementation. For the 2003/2004 annual cycle, each NMFS Region identified regional funding priorities that will improve the capabilities of their regional stranding network. These national and regional funding priorities will be reviewed prior to each annual award cycle in order to incorporate new needs that arise and eliminate priorities that have been met in previous award cycles.

Each proposal must identify one of the 3 categories and at least one national or regional funding priority under that category that is directly related to the project's goals and objectives. Proposals not clearly identifying one of the 3 categories will be returned to the applicant after initial review and will not be considered further in the 2003/2004 cycle.

Category A - Recovery or treatment of live stranded marine mammals (i.e.,rescue of live stranded marine mammals including treatment, assessment, and/or rehabilitation)

1. National Funding Priorities

Enhance the response to live animal strandings including transport, treatment, rehabilitation, or euthanasia.

Enhance rehabilitation practices to protect wild animals in rehabilitation from exposure to novel pathogens and prevent introduction of new or altered diseases into the wild.

2. Regional Funding Priorities

a. Northeast Region

Enhance response to live strandings of large whales (excluding right whale) and mass strandings.

Enhance safe and efficient transport of live stranded marine mammals, especially cetaceans, including aerial transport.

Operational needs to improve access to veterinary care, including on-site (lab or field) equipment or instruments for more rapid assessment and treatment of medical condition(s) and for monitoring of treatment response.

b. Northwest Region

Enhance network operations to respond to, rescue, transport, and treat stranded marine mammals that are sick or injured.

Improve the handling, stabilization, or treatment of live stranded odontocetes.

Train responders to enhance the consistency and quality of assessments and improve documentation of live marine mammal strandings for the potential of human interactions and diseases.

c. Southeast Region

Enhance network preparedness to respond to live strandings of large whales (excluding right whale) and mass strandings of live cetaceans.

Enhance the capability to respond to live stranded marine mammals that are at risk from oil or other hazardous material spills.

Enhance all aspects of live stranded marine mammal response and transport.

Develop outreach and educational materials regarding live stranded marine mammals for both network members and the general public.

d. Southwest Region

California only

Enhance response, treatment, and transport of live stranded marine mammals.

Enhance capability to respond to live stranded marine mammals entangled in fishing gear⁴.

⁴Authorization to conduct disentanglement activities on marine mammals can only be carried out under an MMPA Letter of Authority from NMFS or by state, local, or federal officials or employees under MMPA Section 109(h).

Enhance capabilities to respond to live strandings of marine mammals during El Nino years.

Equipment for routine transport of live stranded marine mammals.

Hawaii, Guam, American Samoa, and Northern Mariana Islands

Operational and staffing needs for increasing quality of care, including veterinary care, during live stranding events throughout the U.S. Pacific Islands (e.g., Guam, American Samoa, and Northern Mariana Islands).

Enhance coverage and response to live strandings of marine mammals throughout the U. S. Pacific Islands, particularly in remote or rural areas.

Outreach and training in the U.S. Pacific Islands (e.g., Guam, American Samoa, and Northern Mariana Islands) for response readiness and treatment of live stranded marine mammals.

Public outreach and education on protocols for communication and response to live stranding events.

Facility operation needs to improve access to veterinary care of stranded marine mammals, including facility improvements, on-site (lab or field) equipment, instruments for more rapid assessment of medical condition, and instruments for monitoring of treatment response.

Equipment needs to improve live stranded cetacean response and transport safety.

e. Alaska Region

Enhance response to live strandings of marine mammals throughout the state, particularly in remote and rural areas.

Enhance capability for the care and treatment of live stranded marine mammals.

Respond to live fur seal entanglements on the Pribilof Islands⁴

Facility operation or equipment needs for stranding response and live stranded marine mammal treatment.

Category B - Data collection from living or dead stranded marine mammals (i.e., recovery of stranded marine mammals for collection of level A⁵ and level B and C⁶ data, specimens, and/or analyses)

⁵Level A data = Reporting which includes investigator's name, species, stranding location, number of animals, date and time of stranding and recovery, length and condition, and sex; marine mammal parts retention or transfer; annual reports. (Data collected through NOAA Form 89-864, OMB No. 0648-0178.)

⁶Level B data = Supplementary information regarding sample collection related to life history and to the stranding event. Level C data = Necropsy results. (Data collection is not required, but is collected on a voluntary basis by stranding network participants.)

1. National Funding Priorities

Collect specimens or data from stranded marine mammals to assess health trends in wild populations of cetaceans and pinnipeds, with emphasis on diseases that have potential for epizootics (e.g., morbillivirus), are endemic and may have a significant impact on survival/reproduction (e.g., herpes and other viruses), or have zoonotic potential.

Collect and assess human impact and post-Unusual Mortality Event data for baseline information on population demographics, life history, movement and distribution, and health, particularly from species of national concern such as beaked whales.

Enhance the quality and quantity of level B and C data⁶ collected from stranded marine mammals.

2. Regional Funding Priorities

a. Northeast Region

Equipment to enhance recovery, examination, and necropsy of large whales and mass stranded cetaceans, including transport of carcasses to salvage sites or facilities and ultimately disposal sites.

Collect data to enhance the assessment of the causes of single or mass stranded marine mammals through the use of biological, physiological, or medical diagnostic studies.

Collect data on post-release survival of marine mammals including releases from rehabilitation and/or beach releases.

Collect consistent level A data⁵, validate historic data, and improve the collection and sharing of level B and C data6 from stranded marine mammals.

Collect specimens and data from stranded marine mammals for the development of quality training materials on marine mammal anatomy and descriptive pathology.

Collect biological samples from stranded marine mammals in support of cooperative research projects using quality control techniques (e.g., serological, histopathological, and chemical analyses, and tissue banking).

Develop training for data collection to enhance the consistency and quality of assessing marine mammal strandings for human-induced injuries and mortalities.

Enhance the quality, using quality control techniques (e.g., serological), of biological sample collection from live stranded marine mammals for analysis in support of cooperative research projects.

Upgrade facility information management systems and capabilities to improve or allow access to the Marine Mammal Health and Stranding Response national databases.

b. Northwest Region

Collect data from stranded marine mammals to investigate the incidence of human interactions and diseases affecting marine mammals.

Collect data from stranded marine mammals to use in comparative studies of contaminant exposures and burdens in marine mammals.

Development of protocols for the identification, processing, and disposal of dead marine mammals that carry contaminant burdens exceeding allowable limits for disposal in the environment.

Collect data from stranded southern resident killer whales to investigate overall health parameters.

Collect data from stranded killer whales and harbor porpoise to clarify taxonomic and stock identification in the wild populations of these two species.

c. Southeast Region

Enhance network preparedness to collect information from strandings of large whales (excluding right whale) and mass strandings of cetaceans.

Collect and evaluate information from stranded marine mammals that can be used in assessing the incidence or prevalence of human-induced injury or mortality.

Collect consistent level A data⁵, validate historic data, and improve the collection of level B and level C data⁶ from stranded marine mammals.

Enhance the capability to record information from stranded marine mammals impacted by oil or other hazardous material spills.

Collect biological samples from stranded marine mammals for analysis in support of marine mammal research projects through cooperative investigations using quality control techniques (e.g., serological, histo-pathological, and chemical analyses).

Collect post-Unusual Mortality Event data from stranded marine mammals for comparisons with mortality and disease observed during die-offs.

d. Southwest Region

California only

Collect specimens and data from stranded marine mammals to assess health trends in wild populations of cetaceans, with emphasis on diseases that have potential for epizootics (e.g., morbillivirus and others).

Full examination of dead-stranded California sea lions to determine the extent of purposeful human-induced mortality in the Southern California Bight.

Collect specimens and data from stranded marine mammals that will support baseline information on population demographics and life history (e.g., genetics, age-to-maturity, reproductive status, etc.).

Enhance the response to and collection of data from dead-stranded marine mammals.

Hawaii, Guam, American Samoa, and Northern Mariana Islands

Collect specimens and data from stranded marine mammals to assess the overall health trends in wild marine mammal populations.

Collect specimens and data from stranded, rehabilitated marine mammals to assess the conditions that affect releasability and identify health risks to wild populations.

Collect appropriate data to investigate the occurrence of epizootics (e.g., morbillivirus) in live stranded odontocetes.

Conduct thorough necropsies and collect biological samples that will enhance the ability to detect purposeful and incidental human-induced injuries and mortalities.

Collect consistent level A data⁵ throughout the jurisdiction, including remote areas, and collect level B and C data6 from strandings of dead marine mammals.

Development of partnerships with marine mammal experts and others, to respond to and conduct studies supporting MMHSRP objectives related to live strandings of marine mammals.

e. Alaska Region

Collect consistent level A data⁵ throughout the state, including remote areas.

Collect level B and C data⁶ from dead-stranded marine mammals.

Conduct necropsies and diagnostics of stranded marine mammals.

Collect tissue samples appropriate for genetic analysis from stranded harbor seals and Steller sea lions.

Operational needs to improve in-house sample tracking and archiving for participation in the National Marine Mammal Tissue Bank and the Marine Mammal Health and Stranding national database.

Category C - Facility operations directly related to Categories A or B above(i.e., physical plant renovations, maintenance, facility modifications/upgrades and/or construction)

1. National Funding Priority

Enhance physical plant capabilities to increase the quality of care of live stranded marine mammals or enhance the safety and quality of data or sample collection from living or dead stranded marine mammals.

2. Regional Funding Priorities

a. Northeast Region

Facility operation needs to enhance and support existing rehabilitation facilities in general or to upgrade existing facilities to meet upcoming rehabilitation facility guidelines.

Facility operation needs to improve access to veterinary care, including on-site (lab or field) equipment or instruments for more rapid assessment and treatment of medical condition(s) and for monitoring of treatment response.

b. Northwest Region

Enhance or upgrade facilities to handle and treat stranded marine mammals that must be kept in rehabilitation due to injury or disease.

Upgrade facilities for handling, stabilizing or treating stranded odontocetes.

Enhance or upgrade existing facilities in anticipation of NMFS guidelines on rehabilitation.

c. Southeast Region

Upgrade existing rehabilitation facilities, with special attention to active facilities (based on rehabilitation records and historic data) and facilities requiring improvements to meet upcoming NMFS guidelines on rehabilitation.

Enhancements or upgrades of necropsy facilities involved in analysis of samples collected from stranded marine mammals.

d. Southwest Region

California only

Facility operation needs or upgrades and renovations associated with veterinary care of stranded marine mammals.

Expansion and renovation of existing stranding and rehabilitation facilities.

Facility upgrades associated with treatment and feeding of stranded marine mammals.

Hawaii, Guam, American Samoa, Northern Mariana Islands

Renovations, upgrades, or expansions to live stranding and rehabilitation facilities.

e. Alaska Region

Facility upgrades and renovations for stranding response and live stranded marine mammal treatment.

Facility operation needs to improve in-house sample tracking and archiving for participation in the National Marine Mammal Tissue Bank and the Marine Mammal Health and Stranding national database.

III. Proposal Instructions and Requirements

The instructions in this document are designed to help applicants in preparing and submitting a proposal for federal funding under the 2003/2004 annual cycle and the emergency assistance component of the Prescott Grant Program. All required Federal forms, the narrative description of the budget and proposed project, and applicable supporting documentation must be complete and must follow the format described here. One signed original and two signed copies of the complete proposal package must be submitted. The original proposal and copies should not be permanently bound in any manner and must be printed on one side only. In addition, we are requesting that applicants submit an electronic copy, on diskette or CD (in Microsoft Word v. 97 or earlier or WordPerfect v. 6.1 or lower), of the narrative project description. The required unbound original and two copies, and the optional electronic copy must be sent to the address listed in section I. K. of this document and postmarked by the submission deadline (see DATES) in order to be considered in the 2003/2004 annual award cycle. If a package does not contain all of the required Federal forms and proposal elements described in this section it will be returned to the applicant and will not be considered further in the this funding cycle. Note that there will be no extensions of the deadline.

Category A and B proposals and Category C proposals (i.e., those that involve build-outs, alterations, upgrades, and renovations to existing facilities) require different federal forms depending on the percentage of federal funds being requested. That is, Category C proposals with 50 percent or more of their requested federal amount going to construction activities require the federal forms for construction (i.e., SF-424C and SF-424D) and do not require the federal forms for non-construction (i.e, SF-424A and SF-424B).

A. Required Federal Forms for Category A and B Proposals (i.e., non-construction)

Cover Sheets

SF-424 “Application for Federal Assistance” (“Catalog of Federal Domestic Assistance” number is 11.439, and title is “Marine Mammal Data Program”)

SF-424B “Assurances - Non-Construction Programs”

Project Budget

SF-424A “Budget Information - Non-Construction Programs“

Certifications and Disclosures

CD-511 “Certification Regarding Debarment, Suspension and Other Responsibility Matters; Drug-Free Workplace Requirements and Lobbying”

SF-LLL “Disclosure of Lobbying Activities” (as required under 15 CFR part 28)

CD-346 “Name Check”

B. Required Federal Forms for Category C Proposals (i.e., construction)

Construction proposals with 50 percent or more of their requested federal amount going to construction activities such as build-outs, alterations, upgrades, and renovations to existing facilities must submit the following forms as part of their proposal package:

Cover Sheets

SF-424 “Application for Federal Assistance” (“Catalog of Federal Domestic Assistance” number is 11.439, and title is “Marine Mammal Data Program”)

SF-424D “Assurances - Construction Programs”

Project Budget

SF-424C “Budget Information - Construction Programs”

Certifications and Disclosures

CD-511 “Certification Regarding Debarment, Suspension and Other Responsibility Matters; Drug-Free Workplace Requirements and Lobbying”

SF-LLL “Disclosure of Lobbying Activities” (as required under 15 CFR part 28)

CD-346 “Name Check”

C. Required Elements of all Project Proposals

A complete proposal package must include the following elements in this order:

1. Cover Sheets (Required Federal forms)

2. Project Budget (Required Federal form(s), budget justification and narrative, and, if applicable, a current and approved negotiated indirect cost agreement with the Federal government)

3. Title Page

4. Project Summary (6 sentences or less)

5. Narrative Project Description (10 pages or less, in format described below)

6. Supporting Documentation (other Federal forms, proof of eligibility, proof of non-profit status (if applicable), curriculum vitae/resumes for the Principal and Co-Investigators, and background documents)

Assistance in filling out required forms and avoiding common problems, complete proposal requirements, supplemental instructions for completing all Federal forms and the budget narrative, and questions and answers related to applying for funds under the Prescott Grant Program can be found on the Prescott Grant Program web site:http://www.nmfs.noaa.gov/ prot_res/ PR2/ Health_and_ Stranding_ Response_ Program/ Prescott.html.

1. Cover Sheet

Office of Management and Budget (OMB) Standard Forms 424 and 424B or 424D must be the cover sheets for each proposal. Under Standard Form 424, Item 5, “Legal Name” must match the name of the eligible applicant (i.e., LOA holder, LOA designee, authorized researcher, Northwest Contingency Plan participant, or state, local, or Federal entity). To complete item 10 of Standard Form 424, the Catalog of Federal Domestic Assistance number is 11.439, and the title is “Marine Mammal Data Program”. Since the 2003/2004 cycle will use funds from two fiscal years, we recommend for item 13 of Standard Form 424 a start date no earlier than December 2003 for project proposals beginning in 2003 and January 2004 for project proposals beginning in 2004.

2. Project Budget

Each proposal must include clear and concise budget information, both on the required federal forms, in summary and in narrative detail.

Category A and B proposals (i.e., proposals requesting a federal amount that does not include construction activities or in which construction activities are less than 50 percent of the total federal amount) must use OMB standard form 424A, “Budget Information - Non Construction Programs” and associated form instructions.

Category C proposals (i.e., proposals requesting a federal amount for construction activities that is equal to or greater than 50 percent of the total federal amount requested) must use OMB standard form 424C “Budget Information - Construction Programs” and associated form instructions.

All instructions should be read before completing the appropriate budget form(s). Note that both Federal and non-Federal columns on Standard Form 424A must be filled in completely and separately and the amounts per category and total amounts on both the Standard Form 424A and 424C must correspond with the budget narrative and justification.

On a separate sheet, describe and justify in narrative detail or on a spreadsheet the itemized costs per category between Federal and non-Federal shares and the corresponding direct and indirect cost totals. For the non-Federal share, the itemized costs should be separated into cash and in-kind contributions. If in-kind contributions are included, describe briefly the basis for estimating the value of these contributions.

If the applicant currently has a negotiated indirect cost rate with the Federal government, an amount for indirect costs can be included in the budget. Indirect costs are overhead costs for basic operational functions (e.g., lights, rent, water, insurance) that are incurred for common or joint objectives and therefore cannot be identified specifically within a particular project. Indirect costs can be included in both the Federal and non-Federal cost shares as long as the method of calculation is clear and certain rules are followed. The first rule is that generally the Federal share of the indirect costs cannot exceed 25 percent of the total proposed direct costs. The second rule is that if the approved indirect cost rate is above 25 percent of the total proposed direct cost, the amount above the 25-percent level can only be used as part of the non-Federal share if it is part of a negotiated rate. If indirect costs are included, the package should include a copy of the current, approved, negotiated indirect cost agreement with the Federal government. However, if the applicant is still in the process of obtaining or updating an indirect cost rate agreement, then the proposal package should include a copy of the transmittal letter and supporting documentation sent to the appropriate Federal agency (i.e., cognizant agency) in order to establish a new rate. If the applicant has never received a Federal grant, they should contact the Department of Commerce, Office of Executive Assistance Management (DOC/OEAM) via their web site:http://www.osec.doc.gov/oebam/grants.htm before submitting the proposal package to the Prescott Grant Program. DOC/OEAM will help determine what documents must be submitted to obtain an indirect cost rate with the Department of Commerce.

We will not consider fees, fund-raising activities, travel for DOC or DOI employees, salaries for DOC or DOI employees, or profits as allowable costs in the proposed budget. The total costs of a project consist of all allowable costs you incur, including the value of in-kind contributions, in accomplishing project activities during the project period. A project begins on the effective date of an award agreement between you and the Grants Officer and ends on the date specified in the award. Accordingly, we cannot reimburse applicants for time expended or costs incurred in developing a project or preparing the application, or in any discussions or negotiations with us prior to the award. We will not accept such expenditures as part of your cost share.

3. Title Page

A Title Page must be included for each project. The Title Page must list the project title, project duration (with a start date no earlier than December 2003 or January 2004), applicant name (must match the “legal name” on Standard Form 424, Item 5), name of Principal Investigator or Contact, address and phone number of the Principal Investigator or Contact, the proposal category and funding priority under which the project fits (see section II. of this document), the project's objective(s), and a statement regarding the Federal, non-Federal, and total costs of the project.

4. Project Summary

In 6 sentences or less, briefly summarize:project goals and objectives as they relate to the Prescott proposal categories (i.e., Category A, Category B, or Category C), national or Regional funding priorities; proposed activities; geographic area where activities would occur; and expected outcomes and benefits from the activities (e.g., increased number of responses to live stranded cetaceans, greater and higher quality data collected from pinniped strandings, renovate and upgrade a marine mammal rehabilitation facility, etc.) of the project. This summary will be posted on our website if the project is funded.

5. Narrative Project Description

The narrative description of the proposed project must not exceed 10 pages (not including documents in the Supporting Documentation section) and must be typed in Courier size 12 font, either single or double-spaced. The narrative should demonstrate the applicant's knowledge of the need for the project, describe how the applicant will manage the business aspects of the grant (i.e., sound accounting practices), and show how the proposed project builds upon any past and current work in the subject area, presents novel or unique solutions, as well as relates to on-going work in related fields. Applicants should not assume that reviewers already know the relative merits of the project.

The narrative project description must include each of the following elements in the order listed here:

(1) Project goals and objectives (maximum 2 pages). Identify the Prescott Grant Program national or regional funding priorities, listed earlier in this document, to which the project's goals and objective(s) correspond. Identify the problem/opportunity the project intends to address and describe its significance to the marine mammal health and stranding response and rehabilitation community. State expected project accomplishments. Although actual stranding events cannot be predicted, historic stranding data in the region of proposed activities should be used to assess season, species, numbers, and likelihood of future strandings. These data are critical in linking proposed project objectives with the Prescott Grant Program's goals, funding priorities, and in assuring an equitable distribution of funds among regions. Therefore, we encourage applicants to provide stranding data and statistics by year and geographic area in sufficient detail to provide a historic and need-based context to the project.

(2) Project management (maximum 4 pages, excluding resumes, curriculum vitae, and agreements between Principal Investigators and other participants or grant fund managers where applicable). Describe how the proposed project will be organized and managed. Financial accounting systems to be used must be explained and a business point of contact responsible for managing those systems must be given. Identify whether the applicant is applying as an LOA holder, designee, researcher, Northwest Region contingency plan organization/individual, or state, local, or Federal entity under 109(h) of the MMPA. Researchers must describe who will administer the business aspects of the grant (i.e., on their own, through their current employer, an affiliated institution, or through a third-party organization) and why this method of administration has been chosen.

One Principal Investigator must be designated on each project. If a Principal Investigator is not identified, we will return the proposal. The Principal Investigator is responsible for all technical oversight and implementation of the work plan as delineated in the Statement of Work (see below). The Principal Investigator may or may not be the applicant. However, if the applicant is not the Principal Investigator, there must be an explanation of the relationship between the applicant and Principal Investigator (e.g., applicant will be responsible for managing the grant funds and the Principal Investigator will be responsible for completing the project milestones on time and within budget while maintaining the integrity and meet the goals of the project, etc.). Project participants or organizations that will have a significant role in conducting the project should be listed as Co-investigators. Organizations or individuals that support the project, for example, network members contributing data or samples, should be referred to as Cooperators. In this section, provide a statement of no more than one page on the qualifications and experience of consultants and/or subcontractors and any Cooperators that are not named as Co-investigators. Copies of the Principal Investigator's and all Co-investigator's current resumes or curriculum vitaes must be included in the package's Supporting Documentation section. In addition, the proof of eligibility documents (see II. C.6. Supporting Documentation) provided and listed in the Supporting Documents section of the proposal must name the Principal Investigator and/or Co-investigator. Resumes, curriculum vitaes, and proof of eligibility documents will not count as part of the 10 page limit.

Reference should be made to any copies of agreements between the Principal Investigator and other participants in the project, describing the specific activities each participant would perform or any endorsements received from other marine mammal health and stranding response participants related to this project that are included in the Supporting Documentation section.

This section should also explain who will be responsible for carrying out each activity proposed. Describe activities that will be conducted by Co-investigators, Cooperators, sub-contractors, or volunteers. Training of volunteers and use of volunteer staff time to complete project activities, as well as oversight of those volunteers, should be discussed in detail.

If any portion of the project will be conducted through consultants and/or subcontracts, procurement guidance found in 15 CFR part 24, “Grants and Cooperative Agreements to State and Local Governments,” and 15 CFR part 14, “Uniform Administrative Requirements for Grants and Agreements with Institutions of Higher Education, Hospitals, Other Non-Profit, and Commercial Organizations” must be followed. This section should describe how requirements for competitive subcontracting will be met if applicable.

(3) Project statement of work (maximum 5 pages). This is a narrative of the work plan that will ensure the proposed project's goals and objectives are met within the proposed award period. It should include detailed descriptions of activities, protocols, methodologies, milestones, and expected products resulting from a successfully completed project. The narrative should respond to the following questions:

(a) What specific activities, protocols, and methodologies does the project include and how do these activities, protocols, and methodologies relate to the project's goals and objectives?

(b) What are the project milestones? List milestones, describing specific activities and associated time lines necessary to meet them. Describe the time lines in increments (e.g., month 1, month 2, etc.), rather than by specific dates.

(c) What are the major outcomes, results, or products expected? Describe expected outcomes, results, or products that will directly relate to the Prescott Grant Program proposal Categories A, B or C and the national and regional funding priorities.

(d) How will outcomes, results, or products be disseminated or shared? Describe how project outcomes, results or products will be disseminated to or shared with stranding network participants and other potential users. In addition, describe how activities and results of the project will be shared outside the stranding network for education and outreach purposes. In both cases, indicate the method of information or product transfer (e.g., print media, video, training manual, educational displays, facility sharing, etc.)

(4) Project impacts (maximum 1 page). Describe the potential impacts of this proposed project on both the recovery and treatment of stranded marine mammals and the collection of data from living or dead stranded marine mammals for use in scientific research on marine mammal health. Identify any other potential project impacts.

(5) Project performance evaluation (maximum 1 page). Specify the quantitative and/or qualitative criteria to be used in evaluating the relative success or failure of the project in achieving the stated project goals and objectives. For Category C proposals, performance measures should be based on (but are not limited to) such criteria as meeting or exceeding project time lines within budget and meeting or exceeding environmental and safety standards for construction activities.

(6) Need for government financial assistance(maximum 1 page). Explain the need for government financial assistance in successfully carrying out project activities. Describe resultant products of previous financial assistance, if applicable, referencing a list sources of funding received from the Federal government, either past or current, for this or a closely related project(s) included in the Supporting Documentation section (see below). In this section, describe other sources of Federal funding currently being sought for this same project.

(7) Federal, state, and local government programs and activities (maximum 1 page). List any existing Federal, state, or local government programs or activities that this project would affect and reference any corresponding documentation (i.e., permits, approvals, environmental assessments) included in the proposal package.

(8) Participation by persons or groups other than the applicant (maximum 1 page). Describe how government and non-government entities, particularly other members of the marine mammal health and stranding response community, will participate in the project and the nature of their participation. How much will other members of the marine mammal health and stranding response community participate in the project?

6. Supporting Documentation

Supporting documents will not count as a part of the 10 page limit.

In order to be considered for an award in this funding cycle, the applicant must provide proof of eligibility documents in this section. These include one or more of the following: LOA(s), LOA letter of designation, letter from NMFS Regional Administrator to collect or receive marine mammal specimens and parts under 50 CFR 216.22, if in the Northwest Region (Washington and Oregon) documentation that the applicant is a NMFS-recognized participant and named in the Draft 2002 National Contingency Plan for Response to Marine Mammal Unusual Mortality Events, or reports sent to NMFS under MMPA Section 109(h)(50 CFR 216.22(b)) as a state, local, or Federal participant. Principal Investigators that are researchers and do not hold LOAs, are not LOA designees, are not NMFS-recognized Northwest Region participants, and are not MMPA Section 109(h) participants must include copies of letters from a NMFS Region or the MMHSRP authorizing them under 50 CFR 216.22, any MMPA and/or ESA scientific research and/or enhancement permits, as well as a Co-investigator's LOA or letter of designation. See section I. F., Eligibility, to determine what specific type of documentation is required.

Applicants requiring MMPA and/or ESA scientific research and/or enhancement permits and/or IACUC approvals must include in this section a copy of either: (1) an application cover letter from the Prescott applicant to NMFS and/or the IACUC, or (2) a copy of the final permit and/or approval.

If applicable, documentation of the requests or approvals of all environmental permits must be included in this section of the proposal. Such documentation should include any environmental analyses required for obtaining such permits, completed NEPA checklists (form available on the Prescott Grant Program web site http://www.nmfs.noaa.gov/ prot_res/ PR2/ Health_and_ Stranding_ Response_ Program/ Prescott.html), and environmental assessments.

Curriculum vitae or resumes of the Principals and Co-Investigators and all other required Federal forms (i.e., CD-511, SF-LLL, CD-346) must be included in this section.

Applicants applying as non-profit organizations must include a letter from the Internal Revenue Service verifying non-profit classification under Internal Revenue Code and tax exempt status under section 501(c)(3) of the Code.

Any other relevant documents and additional information (e.g., maps, additional stranding statistics for your geographic area or region, organizational history and information, schematics and architectural renderings of facility upgrades, photographs, etc.) that will help us to understand the proposed project and the problem/opportunity the project seeks to address should be included in this section.

IV. Screening, Review, and Selection Procedures

Screening, review, and selection procedures will take place in 5 steps, described in detail in this section:initial screening, on-line review, peer review, merit review, and final selection by the Selecting Official (i.e., the Assistant Administrator for Fisheries or AA). The on-line review will involve at least one reviewer per proposal and the peer review will involve at least 3 reviewers per proposal; therefore, all proposals will be subject to review by a minimum of 4 independent reviewers. The AA will make the final decision regarding which proposals will be funded based on recommendations of the merit review team as well as policy considerations such as costs, geographical distribution, financial need, duplication with other Federally funded projects, and equitable distribution of funds among the stranding regions.

A. Initial Screening

The initial screening will ensure that proposal packages have all required forms and proposal elements (listed below and in Section III), clearly relate to the 2003/2004 Prescott Grant Program proposal categories and funding priorities, and meet all of the eligibility criteria identified in Section I. F. of this document. Applicants that do not meet the required eligibility criteria described in section I. F. will not be eligible for funding in the 2003/2004 cycle. In addition, applicants proposing activities that may require an environmental assessment (i.e., Category C proposals) under NEPA must include sufficient environmental analyses (i.e., permit documentation and NEPA checklist) to allow program staff to determine whether or not the proposal can be categorically excluded from further analysis. If insufficient documentation is provided or if proposals cannot be categorically excluded from NEPA review, the applicant will be notified after initial screening that further information or an environmental assessment is necessary. Further documentation must be supplied immediately and the environmental assessments must be completed in time for the merit review panel in late Spring. Proposals requiring further NEPA review will still undergo on-line and peer review, unless there is some other reason for disqualification. Failure to complete an environmental assessment will delay processing of the proposal, and if selected for funding will delay receipt of funds.

Proposal packages received in the Office of Protected Resources and postmarked by the submission deadline will be screened to ensure that they:were postmarked by the due date (see DATES); include one original and two signed copies of the entire proposal package; include the correct OMB forms (424, 424A for Categories A and B or 424D for Category C, and 424B for Categories A and B or 424C for Category C) signed and dated (see section III. A and III. B of this document); provide for at least a 25-percent non-Federal cost share (see section I. I); identify a Principal Investigator and provide current resumes or curriculum vitae for both the Principal and all Co-Investigators (see section III. C); provide proof of eligibility (see section I. F.); address one of the 3 proposal categories for species under NOAA's jurisdiction (see section III); include proposal package elements 1 through 6 (see section III. C); include MMPA/ESA permit application cover letters or permits, IACUC letters or approvals, if applicable; include NEPA checklist and other environmental documentation, if applicable; and provide proof of non-profit status, if applicable. Proposals that pass this initial screening will be pooled based on the proposal category (i.e., Category A, B, or C) identified by the applicant and by the coast where activities are proposed resulting in 6 review pools.

The required unbound original and two copies, and the optional electronic copy must be sent to the address listed in section I. K. of this document and postmarked by the submission deadline (see DATES) in order to be considered in the 2003/2004 annual award cycle. If a package is not postmarked by the submission deadline, include a signed unbound original with two copies, and does not contain all of the required OMB forms and other documents described in this section it will be returned to the applicant and will not be considered further inthis funding cycle. Only those proposals satisfying all of the basic requirements above will enter the full evaluation phase of the review process, described in the next sections.

B. On-Line Review

After initial screening, on-line reviewers will be asked to evaluate individual proposals in the reviewers' specific area of expertise for technical soundness and feasibility via an on-line process. The on-line review results will be used to provide comments on the technical aspects of each proposal to both the peer and merit review panels (described below).

The proposal category (i.e., Category A, B, or C) and specific activities described in each proposal will be used in selecting the most appropriate expertise needed for the specific review. On-line reviewers will include private and public sector experts according to the Prescott Grant Program's proposal categories: Category A proposals will be reviewed by experts from fields such as marine mammal biology, rehabilitation, animal husbandry, diagnostic medicine, veterinary medicine, medical science, conservation biology, and education and outreach; Category B proposals will be reviewed by experts in fields such as toxicology, epidemiology, veterinary medicine, veterinary pathology, virology, marine mammal biology, infectious diseases, physiology, acoustics, education, outreach, genetics, conservation biology, and other biological and physical sciences; and Category C proposals will be reviewed by experts in fields such as construction, water systems, life support systems, curation, animal care, architecture, structural engineering, facility managers, and marine mammal biology. Each on-line reviewer will be required to certify that they do not have a conflict of interest concerning the proposal(s) they are reviewing prior to their review.

To determine the technical soundness and feasibility of each proposal, the on-line reviewers will provide an independent review using the weighted criteria outlined in Section IV. D. below. Depending on the type of activities proposed, on-line reviewers may focus their review on issues such as the likelihood of meeting milestones and achieving anticipated results in the time-line specified in the statement of work, the sufficiency of information to evaluate the project technically, the strengths and weaknesses of the technical design relative to securing productive results, and the inclusion of quality assurance considerations. Each proposal will be reviewed by at least one on-line reviewer. On a scale of 0-100, the reviewers will score the proposal in each criteria. An average, weighted score will be generated from each review using the numeric score per criteria and the weights assigned to each criteria (see Section IV. D. for numeric scores and assigned weights per criteria). Along with the peer review scores, these on-line review scores will be used in determining whether proposals will advance to merit review (i.e., each proposal scoring greater than 60 points in either the on-line or peer review will go on to merit review).

C. Peer Review

After the initial screening, each accepted proposal will undergo a peer review by participants in the U. S. marine mammal stranding network. Peer reviewers will be asked to evaluate individual proposals based on the proposal category and funding priorities identified by the applicant, review criteria, and the specific technical evaluation from on-line reviews. The proposal categories (i.e., Category A, B, or C) and the geographic location of proposed activities will be used in selecting appropriate peer reviewers. Scoring and commenting on each proposal will be completed during these meetings. In addition, a summary of panel comments and discussion will be generated for each proposal. The peer review results will be used to numerically rank the proposals (based on the average weighted score of each proposal) and provide programmatic and regional stakeholder comments on each proposal. Each peer reviewer will be required to certify that they do not have a conflict of interest concerning the proposal(s) they are reviewing prior to their review.

To determine the appropriateness of each proposal to the Prescott Grant Program's proposal categories and funding priorities, the peer reviewers will provide independent reviews using the weighted criteria outlined below (Section IV. D.). Depending on the type of activities proposed, peer reviewers will be asked to focus their review on issues such as the likelihood of meeting milestones and achieving anticipated results in the time-line specified in the statement of work, the contribution of potential outcomes, results, or products to the marine mammal stranding and rehabilitation communities, and the amount of collaboration with other stranding network participants. Each proposal will be reviewed by at least 3 peer reviewers. On a scale of 0-100, the reviewers will score the proposal in each criteria outlined in Section IV. D. below. An average, weighted score will be generated for each proposal using the numeric score per criteria and the weights assigned to each criteria (see Section IV. D. for numeric scores and assigned weights per criteria). All proposals will be numerically ranked based on this average, weighted score.

D. Review Criteria

1. Soundness of Project Goals, Objectives, and Activities

Proposals will be evaluated on clear identification of project goals and objectives and the ability to link those goals and objectives to project activities, including protocols and methods proposed, and the applicability of the project's goals and objectives to the Prescott Grant Program's proposal categories and funding priorities. All reviewers will consider the potential environmental impacts (e.g., water quality, air quality, waste disposal, etc.) of the proposed activities. On-line reviewers will consider:the likelihood of meeting milestones and achieving anticipated results in the time-line specified in the statement of work; the sufficiency of information to evaluate the project technically; if such information is sufficient, the strengths and weaknesses of the technical design relative to securing productive results; and if data collection is proposed, the inclusion of quality assurance considerations. In addition to technical aspects of the proposal, peer reviewers will focus on:the contribution of potential outcomes, results, or products to the marine mammal stranding and rehabilitation communities; and, the amount of collaboration with other stranding network participants. (Numeric scores from 1-100; Assigned weight of 50 percent)

2. Adequacy of Project Management

The management of the project will be evaluated based on the adequacy of the proposed project management plan in overseeing the technical aspects and implementation of the work plan as delineated in the proposal's Statement of Work. Reviewers will also review previous, related experiences of the applicant and qualifications of the project's Principal Investigator, Co-investigator(s) and other personnel (i.e., designated contractors, consultants, and Cooperators). Review of the proposal's description of financial accounting systems and grants administration oversight will also be ephasized. Consideration will also be given to previous awards received by the Principal Investigator and outcomes, results, or products resulting from such awards. (Numeric scores of 1-100; Assigned weight of 25 percent)

3. Identification and Suitability of Project Performance Evaluation Methods

Proposals will be scored based on their clear identification of performance evaluation methods and the suitability of those methods for evaluating the success or failure of the project in terms of meeting its original goals and objectives. For Category A and B proposals these methods should include quantitative or qualitative criteria to evaluate relative success of failure of project activities. For Category C proposals these methods should also include criteria for measuring success or failure in meeting project time lines within budget and success of failure in complying with environmental and safety standards for construction activities. (Numerical scores of 1-100; Assigned weight of 10 percent)

4. Justification, Clarity, and Allocation of Project Costs

The proposed costs and overall budget of the project will be evaluated in terms of the work proposed. The itemized costs and the overall budget must be justified, clear to the reviewer, and consistent with fair market values for similar items or services. (Numeric scores of 1-100; Assigned weight of 15 percent)

E. Merit Review

After proposals have undergone review, the MMHSRP staff, NMFS Regional Administrators (RAs) and Office Directors (ODs) will conduct a merit review in consultation with the Marine Mammal Commission and U. S. Fish and Wildlife Service, to consider the review results and develop recommendations for funding. Only those proposals having an average weighted score higher than 60 points in either the on-line or peer review will be evaluated.

In order to make recommendations regarding equitable distribution of funds among regions and to justify any discrepancies between the reviewers' comments and the merit reviewers' recommendations, merit reviewers will review the on-line and peer review comments, discrepancies between the on-line and peer review average, weighted scores, numeric ranking of proposals by the peer reviewers, required proposal elements, stranding statistics by region (i.e., geographic need for proposed projects), environmental assessments or documentation, and the number of applications received by region and by funding year.

Equitable distribution will be determined by review of proposals by stranding region using the best available data on episodic, anomalous or unusual stranding events, average annual strandings and mortalities, and sizes of marine mammal populations within each region. Merit reviewers will also consider the actual stranding statistics per region for the previous 5 non-El Nino years and for the last El Nino year. After proposals are prioritized within the regions using the best available data, preference will be given to facilities within each region that have established records for rescuing or rehabilitating sick or stranded marine mammals and whose activities are planned so that they minimize any potential adverse impacts on the environment.

The merit review team will prepare a written justification for any recommendations for funding that fall outside the peer reviewer's numerical ranking or the equitable distribution order, and for any cost adjustments. In addition, the merit review team will prepare written recommendations regarding additional policy factors that the NMFS AA should consider in making final funding selections.

F. Final Selection Procedures

The NMFS AA will review the funding recommendations from the merit review, comments of the reviewers, and select the projects to be funded. In making the final selections, the AA will consider costs, geographical distribution, financial need, duplication with other federally funded projects, potential environmental impacts, equitable distribution of funds among the designated stranding regions, and other policy factors. As a result, awards are not necessarily made to the highest technically ranked projects.

G. Project Funding

The final, exact amount of funds, the scope of work, and terms and conditions of a successful award will be determined in pre-award negotiations between the applicant and NOAA/NMFS representatives. The funding instrument (grant or cooperative agreement) will be determined by NOAA Grants Management Division. If the proposed work entails substantial involvement between the applicant and NMFS, a cooperative agreement will be utilized. Work requiring substantial involvement between the applicant and NMFS includes the planning and upgrading of rehabilitation facilities, the development of protocols, and other types of projects where a high level of cooperation is necessary to ensure that the applicant is achieving the broader goals of the MMHSRP. Applicants should not initiate any project in expectation of Federal funding until they receive a grant award document signed by an authorized NOAA official in the Grants Management Division.

V. Administrative Requirements

The Department of Commerce Pre-Award Notification Requirements for Grants and Cooperative Agreements contained in the Federal Register notice of October 1, 2001 (66 FR 49917), as amended by the Federal Register notice published on October 30, 2002 (67 FR 66109), is applicable to this solicitation. Copies of this notice can be obtained from the Government Printing Office Website:http://www.access.gpo.gov/ su_docs /aces /aces140.html

or the Prescott Stranding Grants Program Website:

http://www.nmfs.noaa.gov /prot_res/ PR2/ Health_and_ Stranding_ Response_ Program/ Prescott.html

If costs are incurred prior to receiving an award agreement signed by an authorized NOAA official, applicants do so solely at their own risk of not being reimbursed by the Government. Notwithstanding any verbal or written assurance that applicants have received, the Department of Commerce has no obligation to cover pre-award costs.

Proposals that are not accepted for funding in the 2003/2004 cycle will be filed in the Prescott Grant Program office for a minimum of 3 years from date of receipt.

A. Obligations of Recipients (Successful Applicants)

Applicants awarded a grant or cooperative agreement for a project must:

1. Manage the day-to-day operations of the project, be responsible for the performance of all activities for which funds are granted, and be responsible for the satisfaction of all administrative and managerial conditions imposed by the award.

2. Keep records sufficient to document any costs incurred under the award, and allow access to these records for audit and examination by the Secretary of Commerce, the Comptroller General of the United States, or their authorized representatives; and, submit financial status reports (SF 269) to NOAA's Grants Management Division in accordance with the award conditions.

3. Submit semi-annual and annual reports, and for projects extending beyond a year, final reports within 90 days after completion of each project, to the individual identified as the NMFS Program Officer in the funding agreement. The final report must describe the project and include an evaluation of the work performed and the results and benefits in sufficient detail to enable us to assess the success of the completed project.

We are committed to using available technology to achieve the timely and wide distribution of final reports to those who would benefit from this information. Therefore, we request submission of final reports in electronic format, in accordance with the award terms and conditions, for publication on the NMFS Protected Resources Home Page. Awardees can charge the costs associated with preparing and transmitting their final reports in electronic format to the grant award.

4. In addition to the final report, we request that awardees submit any publications printed with award funds (such as manuals, surveys, etc.) to the NMFS Program Officer for dissemination to the public. These publications should be submitted either as three hard copies or in an electronic version. Peer-reviewed publications published with or without award funds and manuscripts published without award funds are requested to be submitted to NMFS; however, these publications will not be disseminated to the public.

Classification

Prior notice and an opportunity for public comments are not required by the Administrative Procedure Act or any other law for this notice concerning grants, benefits, and contracts (5 U.S.C. section 553(a)(2)).

Furthermore, a regulatory flexibility analysis is not required for purposes of the Regulatory Flexibility Act (5 U.S.C. section 601 et seq).

This action has been determined to be not significant for purposes of Executive Order 12866.

Applications under this program are subject to Executive Order 12372, “Intergovernmental Review of Federal Programs.”

Notwithstanding any other provision of law, no person is required to respond to, nor shall any person be subject to a penalty for failure to comply with, a collection of information subject to the requirements of the PRA unless that collection of information displays a currently valid OMB control number.

This document contains collection-of-information requirements subject to the Paperwork Reduction Act (PRA). The use of Standard Forms 424, 424A, 424B, 424C, 424D, 269, and SF-LLL have been approved by OMB under the respective control numbers 0348-0043, 0348-0044, 0348-0040, 0348-0041, 0348-0042, 0348-0039, and 0348-0046.

This document also contains collection-of-information requirements that have been approved by OMB under control number 0648-0178. Public reporting burden for the registration of the salvage of dead marine mammals, or for periodic reports by state or local government officials or employees is estimated to average 20 minutes per individual response, response, including the time for reviewing instructions, searching existing data sources, gathering and maintaining the data needed, and completing and reviewing the collection of information. Send comments regarding this burden estimate, or any other aspect of this data collection, including suggestions for reducing the burden, to NMFS (see FOR FURTHER INFORMATION CONTACT).

Dated:February 3, 2003.
William T. Hogarth,
Assistant Administrator for Fisheries, National Marine Fisheries Service.

[FR Doc. 03-3290 Filed 2-5-03; 4:23 pm]

BILLING CODE 3510-22-S